DEPARTMENT OF HEALTH AND HUMAN SERVICES

Office of Refugee Resettlement

Award of an Urgent Single-Source Grant to Survivors of Torture International (SOTI) in San Diego, CA; Correction

AGENCY: Office of Refugee Resettlement, ACF, HHS.

ACTION: Notice; correction.

CFDA Number: 93.604.

SUMMARY: The Office of Refugee Resettlement, ACF, HHS published a document in the Federal Register of August 16, 2011 (76 FR 50744), concerning the issuance of an urgent single-source grant to Survivors of Torture, International (SOTI), San Diego, CA. The document contained incorrect information in citing the statutory authority for making this award.

Correction: In the Federal Register of August 16, 2011 (76 FR 50744), ORR omitted the primary authority for issuing this award. The notice should have included the following: Awards announced in this notice are authorized by the Torture Victims Relief Act (TVRA) of 1998,” Public Law 105-320 (22 U.S.C. 2152 note), reauthorized by Public Law 109-165 in January 2006. Section 5 (a) of the TVRA of 1998 provides for “Assistance for Treatment of Torture Victims. — The Secretary of Health and Human Services may provide grants to programs in the United States to cover the cost of the following services: (1) Services for the rehabilitation of victims of torture, including treatment of the physical and psychological effects of torture. (2) Social and legal services for victims of torture. (3) Research and training for health care providers outside of treatment centers, or programs for the purpose of enabling such providers to provide the services described in paragraph (1).” And by Section 412 (c)(1)(A) of the Immigration and Nationality Act (INA) (8 U.S.C. 1522(c)(1)(A), as amended, and the Refugee Assistance Extension Act of 1986, Public Law 99-605, Nov 6, 1986, 100 Stat. 3449.

FOR FURTHER INFORMATION CONTACT: Ronald Munia, Director, Division of Community Resettlement, Office of Refugee Resettlement, 901 D Street, SW., Washington, DC 20047. Telephone: 202-401-4559. E-mail: Ronald.Munia@acf.hhs.gov.

Dated: August 24, 2011.
Eskinder Negash,
Director, Office of Refugee Resettlement.

[FR Doc. 2011-22196 Filed 8-29-11; 8:45 am]

BILLING CODE 4120-27-P